FEDERAL COMMUNICATIONS COMMISSION

[OMB 3060-1201]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written comments should be submitted on or before August 11, 2017. If you anticipate that you will be submitting comments, but find it difficult to do so within the period of time allowed by this notice, you should advise the contacts below as soon as possible.

ADDRESSES: Direct all PRA comments to Cathy Williams, FCC, via email: PRA@fcc.gov and to Cathy.Williams@fcc.gov.

FOR FURTHER INFORMATION CONTACT: For additional information about the information collection, contact Cathy Williams at (202) 418-2918.

SUPPLEMENTARY INFORMATION: As part of its continuing effort to reduce paperwork burdens, and as required by the PRA, 44 U.S.C. 3501-3520, the FCC invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-1201.

Title: Video Relay Services, CG Docket Nos. 10-51 & 03-123.

Form Number: N/A.

Type of Review: Revision of currently approved collection.

Respondents: Business or other for-profit entities; Individuals or households; Not-for-profit institutions.

Number of Respondents and Responses: 135,350 respondents; 2,395,180 responses.

Estimated Time per Response: 3 minutes (.05 hours) to 300 hours.

Frequency of Response: Annual, monthly, on-going, one-time, and quarterly reporting requirements; Recordkeeping requirement, Third party disclosure requirement.

Obligation to Respond: Required to obtain or retain benefits. The statutory authority for this information collection is section 225 of the Communications Act, 47 U.S.C. 225. The law was enacted on July 26, 1990, as Title IV of the Americans with Disabilities Act of 1990 (ADA), Public Law 101-336, 104 Stat. 327, 366-69.

Total Annual Burden: 473,809 hours.

Total Annual Cost: $41,000.

Nature and Extent of Confidentiality: Confidentiality is an issue to the extent that individuals and households provide personally identifiable information, which is covered under the FCC's updated system of records notice (SORN), FCC/CGB-4, “Internet-based Telecommunications Relay Service-User Registration Database (ITRS-URD).” As required by the Privacy Act, 5 U.S.C. 552a, the Commission also published a SORN, FCC/CGB-4 “Internet-based Telecommunications Relay Service-User Registration Database (ITRS-URD),” in the Federal Register on February 9, 2015 (80 FR 6963) which became effective on March 23, 2015.

Privacy Impact Assessment: This information collection affects individuals or households. As required by the Office of Management and Budget Memorandum M-03-22 (September 26, 2003), the FCC is in the process of completing the Privacy Impact Assessment.

Needs and Uses: On June 10, 2013, the Commission released Structure and Practices of the Video Relay Service Program et al., FCC 13-82, published at 78 FR 40582, July 5, 2013 (2013 VRS Reform Order), adopting further measures to improve the structure, efficiency, and quality of the video relay service (VRS) program, reducing the noted inefficiencies in the program, as well as reducing the risk of waste, fraud, and abuse, and ensuring that the program makes full use of advances in commercially-available technology. In this Order, the Commission (1) required reporting of unauthorized and unnecessary use of VRS; (2) required provider certification of annual compliance plans; (3) established a central telecommunications relay services (TRS) user registration database (TRS-URD) which incorporates a centralized eligibility verification requirement to ensure accurate registration and verification of users, as well as per-call validation, to achieve more effective prevention of waste, fraud, and abuse; (4) established procedures to prevent unauthorized changes of a user's default TRS provider; and (5) established procedures to protect TRS users' customer proprietary network information (CPNI) from disclosure.

On March 23, 2017, the Commission released Structure and Practices of the Video Relay Services Program et al., FCC 17-26, published at 82 FR 17754, April 13, 2017, (2017 VRS Improvements Order), which among other things, (1) allows VRS providers to assign TRS Numbering Directory 10-digit telephone numbers to hearing individuals for the limited purpose of making point-to-point video calls, and (2) gives VRS providers the option to participate in an at-home call handling pilot program, subject to certain limitations, as well as recordkeeping and reporting requirements.

Federal Communications Commission.
Katura Jackson,
Federal Register Liaison Officer, Office of the Secretary.

[FR Doc. 2017-12064 Filed 6-9-17; 8:45 am]

BILLING CODE 6712-01-P